DEPARTMENT OF COMMERCE

International Trade Administration

[A-122-838]

Certain Softwood Lumber Products from Canada: Notice of Partial Rescission of Antidumping Duty Administrative Review

AGENCY: Import Administration, International Trade Administration, Department of Commerce.

SUMMARY: The Department of Commerce (the Department) is conducting an administrative review of the antidumping duty order on certain softwood lumber products from Canada for the period May 22, 2002, through April 30, 2003. We are now rescinding this review with respect to eight companies for which the requests for an administrative review have been withdrawn.

EFFECTIVE DATE: November 4, 2003.

FOR FURTHER INFORMATION CONTACT: Amber Musser or Constance Handley,at (202) 482-1777 or (202) 482-0631, respectively; AD/CVD Enforcement, Office 5, Group II, Import Administration, International Trade Administration, U.S. Department of Commerce, 14th Street & Constitution Avenue, NW, Washington, DC 20230.

SUPPLEMENTARY INFORMATION:

Background

On May 1, 2003, the Department published a notice of opportunity to request the first administrative review of this order. See Antidumping or Countervailing Duty Order, Finding, or Suspended Investigation; Opportunity to Request Administrative Review, 68 FR 23281

(May 1, 2003). On May 30, 2003, in accordance with 19 CFR 351.213(b), the Coalition for Fair Lumber Imports Executive Committee (the petitioner) requested a review of 192 producers/exporters of certain softwood lumber products. Also, between the dates of May 7, 2003, and June 2, 2003, 338 Canadian producers requested a review on their own behalf or had a review of their company requested by a U.S. importer. Taking into consideration the overlap in the three aforementioned categories, the total number of companies for which reviews were requested was 422.

On July 1, 2003, the Department published a notice of initiation of this antidumping duty administrative review, covering the period May 22, 2002, through April 30, 2003. See Initiation of Antidumping Administrative Review, 68 FR 39059 (July 1, 2003). The initiation, and subsequent correction, covered 422 companies.¹ On September 11, 2003, the Department published a notice of rescission for 48 companies for which review requests had been withdrawn on July 18 and August 4, 2003. See Certain Softwood Lumber Products from Canada: Notice of Partial Rescission of Antidumping Duty Administrative Review, 68 FR 53546 (September 11, 2003) (First Rescission Notice). Based on this rescission of the 48 companies, the total number of companies under review was reduced to 374.

¹ Buchanan Lumber, a distinct entity from Buchanan Lumber Sales Inc., was inadvertently omitted from the original initiation notice. See Initiation of Antidumping and Countervailing Duty Administrative Reviews, Requests for Revocation in Part and Deferral of Administrative Reviews, 68 FR 44524 (July 29, 2003).

On September 29, 2003, nine lumber companies withdrew their requests for their own reviews. However, the petitioner had also requested the review of one of these nine companies, Préparabois Inc. The petitioner has not withdrawn its request for the review of Préparabois Inc. Accordingly, the Department has not rescinded the review with respect to this company.

Partial Rescission of Antidumping Duty Administrative Review

The additional 8 companies, for whom the review will be rescinded, are as follows:

Ainsworth Lumber Co. Ltd.

Bathurst Lumber

Blackville Lumber

Bois de l'Est F.B. Inc.

Boscus Canada Inc.

Groupe de Scieries G.D.S. Inc.

Produits Forestiers Lamco Inc.

Taylor Lumber Company Ltd.

Pursuant to 19 CFR 315.213(d)(1), we are rescinding the administrative review with respect to each of the above listed companies. The Department will issue appropriate assessment instructions to U.S. Customs and Border Protection within 15 days of publication of this notice.

This notice is issued and published in accordance with section 751 of the Tariff Act of 1930, as amended, and 19 CFR 351.213(d)(4).

Dated: October 28, 2003.
Holly A. Kuga,
Acting Deputy Assistant Secretary for Import Administration.

[FR Doc. 03-27688 Filed 11-3-03; 8:45 am]

BILLING CODE 3510-DS-S